DEPARTMENT OF TRANSPORTATION

Federal Aviation Administration

Notice of Opportunity for Public Comment on a Request To Release Surplus Property at the Vidalia Regional Airport, Vidalia, Georgia

AGENCY: Federal Aviation Administration (FAA), DOT.

ACTION: Notice.

SUMMARY: FAA is considering a request from the City of Vidalia to waive the requirement that 6.11 acres of surplus property located at the Vidalia Regional Airport be used for aeronautical purposes. Currently, the ownership of the property provides for the protection of FAR Part 77 surfaces and compatible land use which would continue to be protected with deed restrictions required in the transfer of land ownership. The land is owned and operated by the airport, but not currently in use or planned for aeronautical use.

DATES: Comments must be received on or before July 8, 2019.

ADDRESSES: Comments on this notice may be mailed or delivered in triplicate to the FAA at the following address: Atlanta Airports District Office, Attn: Rob Rau, Planning Team Lead, 1701 Columbia Ave., Suite 220, Atlanta, GA 30337-2747.

In addition, one copy of any comments submitted to the FAA must be mailed or delivered to Mr. Nick Overstreet, City Manager, City of Vidalia at the following address: 114 Jackson Street, Vidalia, GA 30475.

FOR FURTHER INFORMATION CONTACT: Rob Rau, Planning Team Lead, Atlanta Airports District Office, 1701 Columbia Ave., Suite 220, Atlanta, GA 30337-2747, (404) 305-6799. The application may be reviewed in person at this same location.

SUPPLEMENTARY INFORMATION: The FAA is reviewing a request to release 6.11 acres of surplus property at the Vidalia Regional Airport (VDI) under the provisions of 49 U.S.C. 47151(d). On May 1, 2019, the City of Vidalia requested the FAA release 6.11 acres of surplus property for economic development purposes. The FAA has determined that the proposed property release at the Vidalia Regional Airport, as submitted by the City, meets the procedural requirements of the FAA and release of the property does not and will not impact future aviation needs at the airport. The location of the land relative to existing or anticipated aircraft noise contours greater than 65 ldn are not considered to be an issue. The FAA may approve the request, in whole or in part, no sooner than thirty days after the publication of this notice. In accordance with 49 U.S.C. 47107(c)(2)(B)(i) and (iii), the airport will receive fair market value for the property, which will be subsequently reinvested in another eligible airport improvement project for aviation facilities at the Vidalia Regional Airport.

Any person may inspect the request in person at the FAA office listed above under FOR FURTHER INFORMATION CONTACT.

In addition, any person may, upon request, inspect the request, notice and other documents germane to the request in person at the Vidalia Regional Airport.

Issued in Atlanta, Georgia, on May 31, 2019.
Parks Preston,
Assistant Manager, Atlanta Airports District Office, Southern Region.

[FR Doc. 2019-11899 Filed 6-5-19; 8:45 am]

BILLING CODE 4910-13-P